DEPARTMENT OF COMMERCE

National Oceanic and Atmospheric Administration

RIN 0648-XF082

Marine Mammals; File No. 20527

AGENCY: National Marine Fisheries Service (NMFS), National Oceanic and Atmospheric Administration (NOAA), Commerce.

ACTION: Notice; receipt of application.

SUMMARY: Notice is hereby given that Ann Pabst, Ph.D., University of North Carolina Wilmington, Biology and Marine Biology, 601 S. College Road, Wilmington, NC 28403, has applied in due form for a permit to conduct research on marine mammals.

DATES: Written, telefaxed, or email comments must be received on or before January 18, 2017.

ADDRESSES: The application and related documents are available for review by selecting “Records Open for Public Comment” from the “Features” box on the Applications and Permits for Protected Species (APPS) home page, https://apps.nmfs.noaa.gov, and then selecting File No. 20527 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Shasta McClenahan or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant proposes to take marine mammals to: (1) Document the presence of North Atlantic right (Eubalaena glacialis) and humpback (Megaptera novaeangliae) whales in the mid-Atlantic, and (2) describe the distribution and abundance of cetaceans within specific regions used for U.S. Navy training or other activities. Research activities may occur year-round in the Atlantic Ocean from Delaware Bay to Cape Canaveral, FL, and will include aerial and vessel surveys to conduct counts, photo-identification, photogrammetry, and behavioral observations. ESA-listed species include up to 40 blue (Balaenoptera musculus), 100 fin (B. physalus), 200 North Atlantic right, 40 sei (B. borealis), and 150 sperm (Physeter macrocephalus) whales. Non-listed species include 100 Cuvier's beaked (Ziphius cavirostris), 100 false killer (Pseudorca crassidens), 100 Gervais' beaked (Mesoplodon europaeus), 200 humpback, 50 killer (Orcinus orca), 100 melon-headed (Peponocephala electra), 100 minke (B. acutorostrata), 5,000 pilot (Globicephala spp.), 100 pygmy and dwarf sperm (Kogia spp.), 100 pygmy killer (Feresa attenuata), 100 True's beaked (M. mirus), and 100 unidentified beaked whales; 5,000 Atlantic spotted (Stenella frontalis), 8,000 bottlenose (Tursiops truncatus), 1,000 Clymene (S. clymene), 1,000 common (Delphinus delphis), 100 Fraser's (Lagenodelphis hosei), 100 pantropical spotted (S. attenuata), 2,500 Risso's (Grampus griseus), 500 rough-toothed (Steno bredanensis), 200 spinner (S. longirostris), and 1,000 striped (S. coeruleoalba) dolphins; and 100 harbor porpoise (Phocoena phocoena). The permit would be valid for 5 years from the date of issuance.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: December 13, 2016.
Julia Harrison,
Chief, Permits and Conservation Division, Office of Protected Resources, National Marine Fisheries Service.

[FR Doc. 2016-30415 Filed 12-16-16; 8:45 am]

BILLING CODE 3510-22-P